DEPARTMENT OF AGRICULTURE

Natural Resources Conservation Service

Rehabilitation of Floodwater Retarding Structure No. 10 of the Mountain Creek Watershed, Ellis County, TX

AGENCY: Natural Resources Conservation Service.

ACTION: Notice of a Finding of No Significant Impact.

SUMMARY: Pursuant to Section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the rehabilitation of Floodwater Retarding Structure No. 10 of the Mountain Creek Watershed, Ellis County, Texas.

FOR FURTHER INFORMATION CONTACT: Donald W. Gohmert, State Conservationist, Natural Resources Conservation Service, 101 South Main, Temple, Texas 76501-7682, Telephone (254) 742-9800.

SUPPLEMENTARY INFORMATION: The environmental assessment of this federally assisted action indicates that the project will not cause significant local, regional, or national impacts on the environment. As a result of these findings, Donald W. Gohmert, State Conservationist, has determined that the preparation and review of an environmental impact statement is not needed for this project. The project will rehabilitate Floodwater Retarding Structure No. 10 to maintain the present level of flood control benefits and comply with the current performance and safety standards.

Rehabilitation of the site will require the dam to be modified to meet current performance and safety standards for a high hazard dam. The modification will consist of raising the net elevation of the top of dam elevation 3.1 feet to 602.4 feet, install a new two-stage principal spillway (standard drop inlet type) with a port at elevation 575.14 feet and crest at elevation 576.8 feet, install a new 42 inch pipe, and install an impact basin to replace the existing plunge pool. The new principal spillway crest elevation will be raised by 1.5 feet. Flatten the back slope to a 3½:1 slope, lime treat the embankment slopes, and install a new toe drain system along back toe of dam. Lower the crest of the auxiliary spillway 1.4 feet to elevation 592.6 feet and reshape the outlet section of the auxiliary spillway. All disturbed areas will be planted to adapted native and/or introduced plant species. The proposed work will not have a significant effect on any prime farmland, endangered or threatened species, wetlands, or cultural resources.

Federal assistance will be provided under authority of the Small Watershed Rehabilitation Amendments of 2000 (Section 313, Pub. L. 106-472). Total project cost is estimated to be $2,805,600, of which $1,981,100 will be paid from the Small Watershed Rehabilitation funds and $824,500 from local funds.

The notice of a Finding of No Significant Impact (FONSI) has been forwarded to the Environmental Protection Agency and to various Federal, State, and local agencies and interested parties. A limited number of copies of the FONSI are available to fill single copy requests at the above address. Basic data developed during the environmental assessment are on file and may be reviewed by contacting Donald W. Gohmert, State Conservationist.

No administrative action on implementation of the proposal will be taken until 30 days after the date of this publication in the Federal Register.

Dated: June 28, 2010.
Donald W. Gohmert,
State Conservationist.

[FR Doc. 2010-16240 Filed 7-2-10; 8:45 am]

BILLING CODE 3410-16-P